DEPARTMENT OF AGRICULTURE

Agricultural Marketing Service

[Document Number AMS-FV-09-0028, FV-13-328]

United States Standards for Grades of Frozen Vegetables

AGENCY: Agricultural Marketing Service, USDA.

ACTION: Notice.

SUMMARY: The Agricultural Marketing Service (AMS) of the Department of Agriculture (USDA) has revised eight United States Standards for Grades of Frozen Vegetables. This revision replaces dual grade nomenclature with single letter grade designations. “U.S. Grade A” (or “U.S. Fancy”), “U.S. Grade B” (or “U.S. Extra Standard”), and “U.S. Grade C” (or “U.S. Standard”) become “U.S. Grade A,” “U.S. Grade B,” and “U.S. Grade C,” respectively. This change conforms to recent changes in other grade standards. AMS has also updated contact information for obtaining copies of the grade standards and color standards. These changes bring these grade standards in line with the present quality levels being marketed today and provide guidance in the effective use of these products. The grade standards covered by these revisions are: frozen asparagus, frozen lima beans, frozen speckled butter beans, frozen cooked squash, frozen summer squash, frozen sweetpotatoes, frozen turnip greens with turnips, and frozen mixed vegetables.

DATES: Effective Date: August 29, 2013.

FOR FURTHER INFORMATION CONTACT: Brian E. Griffin, Standardization Branch, Specialty Crops Inspection Division, Fruit and Vegetable Program, Agricultural Marketing Service, U.S. Department of Agriculture, 1400 Independence Avenue SW., Room 0709, South Building; STOP 0247, Washington, DC 20250; fax: (202) 690-1527; or email at Brian.Griffin@ams.usda.gov. Copies of the revised U.S. Standards for Grades of Frozen Vegetables are available on the AMS Web site at http://www.ams.usda.gov/scihome, and on http://www.Regulations.gov.

SUPPLEMENTARY INFORMATION: Section 203(c) of the Agricultural Marketing Act of 1946, as amended (7 U.S.C. 1622(c)), directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. Those United States Standards for Grades of Fruits and Vegetables no longer appear in the Code of Federal Regulations but are maintained by USDA, AMS, Fruit and Vegetable Program at the following Web site: http://www.ams.usda.gov/scihome. AMS has revised these U.S. Standards for Grades using the procedures that appear in part 36 of Title 7 of the Code of Federal Regulations (7 CFR part 36).

Background: AMS periodically reviews the processed fruit and vegetable grade standards for usefulness in serving the industry. AMS has identified 18 grade standards covering various frozen vegetables for possible revision. More recently developed grade standards use a single term, such as “U.S. Grade A” or “U.S. Grade B” to describe each level of quality within a grade standard. Older standards use a dual system, such as “U.S. Grade A” and “U.S. Fancy” to describe the same level of quality within a grade standard. Prior to undertaking detailed work developing the proposed revisions to these grade standards, AMS published a notice in the Federal Register on July 23, 2010 (75 FR 43141) soliciting comments on the possible changes and any other comments regarding these grade standards to better serve the industry. A 60-day period was provided for interested persons to submit comments on the proposed grade standards. In response to the Notice, AMS received one comment from by the American Frozen Food Institute (AFFI). AFFI's comments are available on the web at http://www.Regulations.gov. AFFI is a national trade association representing the interests of U.S. frozen food processors and their suppliers. AFFI's more than 500 member companies represent approximately 90 percent of the frozen food processed annually in the United States. AFFI's comment was in support of the proposed revisions to the U.S. grade standards because its membership believes “moving to a one-term system of grading (e.g., referring to “Grade A” solely, instead of allowing the use of “Grade A” and/or “Extra Fancy” to describe the same degree of quality) will help to improve consistency between new and old standards and minimize any confusion that might arise in the marketplace in interpreting or understanding the grading terminology used on packaging.”

AMS published a second Notice with a 60-day comment period in the Federal Register on January 15, 2013 (78 FR 2946). All comments are posted on http://www.Regulations.gov. In response to the second Notice, AMS received two comments. The first commenter, representing a state agency, agreed with the overall proposed change to the standards. This commenter went on to ask why the notice proposes to change the grading for only particular vegetables, e.g., asparagus, lima beans, speckled butter beans, cooked squash, summer squash, etc., and not other vegetables. AMS periodically reviews the processed fruit and vegetable grade standards for usefulness in serving the industry. Other grade standards have been identified and AMS has determined that these grade standards may require additional revisions before moving forward. The commenter also raised a question concerning frozen vegetables genetic modification, which is outside of the scope of this action. Further, the commenter was of the view that a good step overall in helping clarify the grading system would be to add an explanation of what a particular grade on a product means. For example, Grade A means that the product is carefully selected for color and tenderness. With regard to this suggestion, it should be noted that in each of the revised standards, there is a section titled “Grades of (name of commodity).” Within this section there is a definition of what each particular grade of a product means. The second commenter, representing a university, was in support of AMS revising the eight frozen vegetable standards identified in this Notice.

This Notice revises eight of the 18 grade standards identified in notices published July 23, 2010 (75 FR 43141) and January 15, 2013 (78 FR 2946). The changes to each of the grade standards are as follows:

United States Standards for Grades of Frozen Asparagus

Update address for AMS. Change “U.S. Grade A or U.S. Fancy” to “U.S. Grade A.” Change “U.S. Grade B or U.S. Extra Standard” to “U.S. Grade B.”

United States Standards for Grades of Frozen Cooked Squash

Update address for AMS. Change “U.S. Grade A or U.S. Fancy” to “U.S. Grade A.” Change “U.S. Grade B or U.S. Extra Standard” to “U.S. Grade B.” Correct a typographical error to read: “U.S. Grade B is the quality of frozen cooked squash that possesses reasonably good flavor and odor.” This would ensure that these requirements are consistent throughout the document.

United States Standards for Grades of Frozen Lima Beans

Update address for AMS. Change “U.S. Grade A or U.S. Fancy” to “U.S. Grade A.” Change “U.S. Grade B or U.S. Extra Standard” to “U.S. Grade B.” Change “U.S. Grade C or U.S. Standard” to “U.S. Grade C.” Update contact information for obtaining color standards for frozen lima beans.

United States Standards for Grades of Frozen Mixed Vegetables

Update address for AMS. Change “U.S. Grade A or U.S. Fancy” to “U.S. Grade A.” Change “U.S. Grade B or U.S. Extra Standard” to “U.S. Grade B.” Change “U.S. Grade C or U.S. Standard” to “U.S. Grade C.” Update references to color standard and definitions to eliminate conflict with current U.S. Standards for Grades of Frozen Lima Beans (remove reference to Maerz and Paul's Dictionary of Color and replace with current USDA Color Standards for Frozen Lima Beans). Update definition for color to “Green means that not less than 50 percent of the surface area of the individual lima bean possesses as much or more green color than U.S.D.A. lima bean green color standard for frozen lima beans.” Update definition to “White means that more than 50 percent of the surface area of the individual lima bean is lighter in color than U.S.D.A. lima bean white color standard for frozen lima beans.” Add “Information regarding these color standards may be obtained by contacting the Specialty Crops Inspection Division.” These changes would eliminate the inconsistency in evaluating the color of frozen lima beans when they are a component in frozen mixed vegetables.

United States Standards for Grades of Frozen Speckled Butter (Lima) Beans

Update address for AMS. Change “U.S. Grade A or U.S. Fancy” to “U.S. Grade A.” Change “U.S. Grade B or U.S. Extra Standard” to “U.S. Grade B.”

United States Standards for Grades of Frozen Squash (Summer Type)

Update address for AMS. Change “U.S. Grade A or U.S. Fancy” to “U.S. Grade A.” Change “U.S. Grade B or U.S. Extra Standard” to “U.S. Grade B.”

United States Standards for Grades of Frozen Sweet Potatoes

Update address for AMS. Change “U.S. Grade A or U.S. Fancy” to “U.S. Grade A.” Change “U.S. Grade B or U.S. Extra Standard” to “U.S. Grade B.”

United States Standards for Grades of Frozen Turnip Greens With Turnips

Update address for AMS. Change “U.S. Grade A or U.S. Fancy” to “U.S. Grade A.” Change “U.S. Grade B or U.S. Extra Standard” to “U.S. Grade B.” Change references for “flavor” to “flavor and odor” to ensure that these requirements are consistent throughout the document.

The other grade standards identified in the original notice (75 FR 43141), namely frozen carrots, frozen whole kernel corn, frozen corn on the cob, frozen breaded onion rings, frozen peas, frozen peas and carrots, frozen French fried potatoes, frozen sweet peppers, frozen succotash, and frozen tomato juice and tomato juice from concentrate will be revised at a later date. AMS determined that these grade standards require additional revisions to take into account U.S. Food and Drug Administration's Standards of Identity, new styles and pack types, and new commercially cultivated varieties (such as supersweet corn) which possess unique characteristics. AMS will seek additional guidance from the industry to update these grade standards so that they reflect current marketing practices and serve the needs of the industry.

The revisions to these frozen vegetable grade standards made in this notice provide a common language for trade and better reflect the current marketing of frozen vegetables. The changes are made effective 30 days after the date of publication in the Federal Register.

Authority: 7 U.S.C. 1621-1627.

Dated: July 24, 2013.
Rex A. Barnes,
Associate Administrator, Agricultural Marketing Service.

[FR Doc. 2013-18221 Filed 7-29-13; 8:45 am]

BILLING CODE 3410-02-P